COMMITTEE FOR PURCHASE FROM PEOPLE WHO ARE BLIND OR SEVERELY DISABLED

Procurement List Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments Must be Received on or Before: April 11, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: Paper, Toilet Tissue (for the Camp French, CA depot only)

8540-00-530-3770

8540-01-380-0690

NPA: Outlook-Nebraska, Incorporated, Fremont, Nebraska.

Contract Activity: Office Supplies & Paper Products Acquisition Center, New York, New York.

Services

Service Type/Location: Custodial Services, Air National Guard Base—Reserve Buildings, Building Numbers 300, 304, 315, 320, 310, 360, 365, 355, 373, 375, 380, 494, 485, 491, 370, Portland, Oregon.

NPA: The Port City Development Center, Portland, Oregon.

Contract Activity: AF-Portland, Portland International Airport, Oregon.

Service Type/Location: Janitorial/Custodial,

Navy Exchange Buildings, Newport, Rhode Island, Fort Adams, Building 402, Greenelane/Mini Mart Building 1283, Main Store and Barbershop, Building 1250, Package Store, Building 1901, Service Station/Home Mart, Building 1285, Uniform Shop/Taylor Shop, Building 1903.

NPA: CranstonArc, Cranston, Rhode Island.

Contract Activity: Navy Exchange Service Command (NEXCOM), Virginia Beach, Virginia.

G. John Heyer,
General Counsel.

[FR Doc. 04-5643 Filed 3-11-04; 8:45 am]

BILLING CODE 6353-01-P